DEPARTMENT OF DEFENSE

Department of the Army

Notice of Intent To License Government-Owned Inventions; Intent To License Exclusively

AGENCY: Department of the Army, DoD.

ACTION: Notice.

SUMMARY: The invention listed below is assigned to the United States Government as represented by the Secretary of the Army. The U.S. Army Edgewood Chemical Biological Center intends to license this invention exclusively to Sage-N Research, Inc, a California Corporation with principal offices at, 1525 McCarthy Boulevard, Suite 1000, Milpitas, CA 95035. The invention to be licensed is known as “Methods for Detection and Identification of Cell Types (DICT),” and its U.S. Patent Application serial number is 12/570,038, filed on September 30, 2009.

ADDRESSES: Requests for more information and/or objections should be directed to Eric McGill telephone: 410-436-8467, eric.s.mcgill@us.army.mil, U.S. Army Edgewood Chemical Biological Center (ECBC), AMSRD-ECB-PI-BP-TT, Bldg E3330/Rm 241 5183 Blackhawk Road, APG, MD 21010-5424. Any requests of objections should be made within 15 days of the publication of this notice.

FOR FURTHER INFORMATION CONTACT: Dhirajlal Parekh, Office of Research and Technology Applications, U.S. Army Edgewood Chemical Biological Center, AMSRD-ECB-PI-BP-TT, Bldg E3330/Rm 241 5183 Blackhawk Road, APG, MD 21010-5424, telephone: 410-436-8400, e-mail: dhirajlal.parekh@us.army.mil.

SUPPLEMENTARY INFORMATION: None.

Brenda S. Bowen,
Army Federal Register Liaison Officer.

[FR Doc. 2011-7587 Filed 3-30-11; 8:45 am]

BILLING CODE 3710-08-P